DEPARTMENT OF DEFENSE

Office of the Secretary

[Docket ID: DoD-2008-OS-0065]

Privacy Act of 1974; System of Records

AGENCY: National Security Agency/Central Security Service, DoD.

ACTION: Notice to Amend a System of Records.

SUMMARY: The National Security Agency/Central Security Service proposes to amend a system of records notice in its existing inventory of record systems subject to the Privacy Act of 1974, (5 U.S.C. 552a), as amended.

DATES: This proposed action would be effective without further notice on July 7, 2008 unless comments are received which result in a contrary determination.

ADDRESSES: Send comments to the National Security Agency/ Central Security Service, Office of Policy, 9800 Savage Road, Suite 6248, Ft. George G. Meade, MD 20755-6248.

FOR FURTHER INFORMATION CONTACT: Ms. Anne Hill at (301) 688-6527.

SUPPLEMENTARY INFORMATION: The National Security Agency's systems of records notices subject to the Privacy Act of 1974 (5 U.S.C. 552a), as amended, have been published in the Federal Register and are available from the address above.

The specific changes to the record system being amended is set forth below followed by the notice, as amended, published in its entirety. The proposed amendments are not within the purview of subsection (r) of the Privacy Act of 1974, (5 U.S.C. 552a), as amended, which requires the submission of a new or altered system report.

Dated: May 28, 2008.
Patricia L. Toppings,
OSD Federal Register Liaison Officer, Department of Defense.

GNSA 02

System Name:

NSA/CSS Applicants (February 22, 1993, 58 FR 10531).

Changes:

* * * * *

Authority for maintenance of the system:

Delete and replace with “National Security Agency Act of 1959, 50 U.S.C. 402 note (Pub. L. 86-36); 5 U.S.C. Chapters 3 and 33; EO 10450, as amended and EO 9397 (SSN).”

* * * * *

Routine uses of records:

Replace last item with “The DoD ‘Blanket Routine Uses’ published at the beginning of the NSA/CSS’ compilation of system of record notices apply to this system.”

Storage:

Delete entry and replace with “Paper in file folders and electronic storage media.”

* * * * *

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection.”

* * * * *

System Manager:

Delete entry and replace with “The Associate Director, Human Resources, National Security Agency/Central Security Service, Ft. George G. Meade, MD 20755-6000.”

Notification Procedure:

Delete entry and replace with “Individuals seeking to determine whether information about themselves is contained in this system should address written inquiries to the National Security Agency/Central Security Service, Freedom of Information Act/Privacy Act Office, 9800 Savage Road, Ft. George G. Meade, MD 20755-6000.”

Record Access Procedures:

Delete entry and replace with “Individuals seeking access to information about themselves contained in this system should address written inquiries to the National Security Agency/Central Security Service, Freedom of Information Act/Privacy Act Office, 9800 Savage Road, Ft. George G. Meade, MD 20755-6000.”

Contesting Record Procedures:

Delete entry and replace with “The NSA/CSS rules for contesting contents and appealing initial determinations are published at 32 CFR Part 322 or may be obtained by written request addressed to the National Security Agency/Central Security Service, Freedom of Information Act/Privacy Act Office, 9800 Savage Road, Ft. George G. Meade, MD 20755-6000.”

* * * * *

GNSA 02

System name:

NSA/CSS Applicants.

System location:

National Security Agency/Central Security Service, Ft. George G. Meade, MD 20755-6000.

Categories of individuals covered by the system:

Applicants for employment with NSA/CSS.

Categories of records in the system:

File contains forms, documents and correspondence providing personal and qualifications information submitted by individual applicants, educational institutions, past employers, references. Records include processing items, status reports, test results, interview reports, reports of reviewing organizations and other related information.

Authority for maintenance of the system:

National Security Agency Act of 1959, 50 U.S.C. 402 note (Pub. L. 86-36); 5 U.S.C. Chapters 3 and 33; EO 10450, as amended and EO 9397 (SSN).

Purpose(s):

To support the recruitment, selection, hire and placement of applicants. The file is used to document applicant processing, as a basis for selection decisions by individual agency elements and the personnel organization, and such other related uses as required.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To contractor employees and other government entities to make determinations as noted in the purpose above.

The DoD ‘Blanket Routine Uses’ published at the beginning of the NSA/CSS' compilation of system of record notices apply to this system.

Policies and practices for storing, retrieving, accessing, retaining, and disposing of records in the system:

Storage:

Paper in file folders and electronic storage media.

Retrievability:

By name, Social Security Number, and other appropriate data elements.

Safeguards:

Buildings are secured by a series of guarded pedestrian gates and checkpoints. Access to facilities is limited to security-cleared personnel and escorted visitors only. Within the facilities themselves, access to paper and computer printouts are controlled by limited-access facilities and lockable containers. Access to electronic means is limited and controlled by computer password protection.

Retention and disposal:

For applicants who are subsequently hired, records are transferred to Personnel File or destroyed as appropriate. For applicants not hired, record are retained for a period not to exceed one year or until completion of legal proceedings involving issues pertaining to these records, whichever is later, unless employment requirements necessitate retention for a longer period.

System manager(s) and address:

The Associate Director, Human Resources, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Ft. George G. Meade, MD 20755-6000.

Record access procedures:

Individuals seeking access to information about themselves contained in this system should address written inquiries to the National Security Agency/Central Security Service, Freedom of Information Act/Privacy Act Office, 9800 Savage Road, Ft. George G. Meade, MD 20755-6000.

Contesting record procedures:

The NSA/CSS rules for contesting contents and appealing initial determinations are published at 32 CFR Part 322 or may be obtained by written request addressed to the National Security Agency/Central Security Service, Freedom of Information Act/Privacy Act Office, 9800 Savage Road, Ft. George G. Meade, MD 20755-6000.

Record source categories:

Applicant, educational institutions, references, former employers including other governmental entities, interviewing and reviewing individuals including possible gaining organization, security and medical authorities and other sources as relevant and appropriate.

Exemptions claimed for the system:

Portions of this system may be exempt pursuant to 5 U.S.C. 552a(k)(1) and (k)(5), as applicable.

An exemption rule for this record system has been promulgated according to the requirements of 5 U.S.C. 553(b)(1), (2), and (3), (c) and (e) and published in 32 CFR part 322. For additional information contact the system manager.

[FR Doc. E8-12581 Filed 6-4-08; 8:45 am]

BILLING CODE 5001-06-P